DEPARTMENT OF ENERGY

Federal Energy Regulatory Commission

[Project No. 77-212]

Pacific Gas and Electric Company; Notice of Availability of Draft Environmental Assessment

March 4, 2009.

In accordance with the National Environmental Policy Act of 1969, as amended, and the Federal Energy Regulatory Commission's regulations, 18 CFR part 380 (Order No. 486, 52 FR 47879), the Commission has reviewed an application, filed August 26, 2008 and supplemented January 30, 2009, requesting approval of a proposed plan to provide frost protection and late fall irrigation water for commercial crops and hay in the Potter Valley Project area. Commission staff has prepared a draft Environmental Assessment (EA) and in the draft EA, staff analyzed the potential environmental effects of the proposed plan and concludes that approval of the plan, with appropriate environmental measures, would not constitute a major federal action significantly affecting the quality of the human environment.

A copy of the draft EA is on file with the Commission and is available for public inspection. The draft EA may also be viewed on the Commission's Web site at http://www.ferc.gov using the “eLibrary” link. Enter the docket number excluding the last three digits in the docket number field to access the document. For assistance, contact FERC Online Support at FERCOnlineSupport@ferc.gov or toll-free at 1-866-208-3372, or for TTY, (202) 502-8659.

Any comments should be filed within 15 days from the issuance date of this notice, and should be addressed to the Secretary, Federal Energy Regulatory Commission, 888 First Street, NE., Room 1-A, Washington, DC 20426. Please affix “Potter Valley Hydroelectric Project No. 77-212” to all comments. Comments may be filed electronically via the Internet in lieu of paper. The Commission strongly encourages electronic filings (See 18 CFR 385.2001(a)(1)(iii) and the instructions on the Commission's Web site under the “eFiling” link).

Kimberly D. Bose,
Secretary.

[FR Doc. E9-5252 Filed 3-10-09; 8:45 am]

BILLING CODE 6717-01-P